DEPARTMENT OF ENERGY

Federal Energy Regulatory Commission

[Docket Nos. CP14-347-002, CP19-19-001, CP14-511-001]

Magnolia LNG, LLC; Notice of Request for Extension of Time

Take notice that on January 15, 2026, Magnolia LNG, LLC (Magnolia) requested that the Commission grant an extension of time, until April 15, 2031, to construct and place into service its Magnolia LNG Project (Project) located in Calcasieu Parish, Louisiana, as authorized in the Order Granting Authorization Under Section 3 of the Natural Gas Act and Issuing Certificates (April 15 Order).¹ The April 15 Order required Magnolia to complete construction of the Project and make it available for service within five years of the order date, or by April 15, 2021.²

¹ Magnolia LNG, LLC, 155 FERC ¶ 61,033 (2016), reh'g denied, 157 FERC ¶ 61,149 (2016).

² On June 18, 2020, the Commission issued an order amending Magnolia's authorization to increase the authorized total LNG production capacity of the Magnolia LNG Project from 8.0 million metric tons per annum to 8.8 MTPA. The order did not change the construction deadline, which remained April 15, 2021.

Magnolia states that, despite its efforts to meet the revised April 15, 2026, the progress of the construction deadline has been delayed primarily due to overlapping construction deadlines set by the Department of Energy (DOE) ³ and DOE's issuance of a new policy statement that imposed more restrictive construction deadlines on requests to extend the commencement deadline for non-FTA export authorizations,⁴ as well as DOE's rescission of that policy on April 2, 2025.⁵ Magnolia was required to allow its prior non-FTA authorization to expire, and on November 29, 2023, Magnolia submitted a new non-FTA application to DOE, which remains pending.

³ DOE/FE Order No. 3909, Docket No. 13-132-LNG, Opinion and Order Granting Long-Term, Multi-Contract Authorization to Export Liquefied Natural Gas by Vessel from the Proposed Magnolia LNG Terminal to be Constructed in Lake Charles, Louisiana, to Non-Free Trade Agreement Nations (Nov. 30, 2016).

⁴ Policy Statement on Export Commencement Deadlines in Authorizations to Export Natural Gas to Non-Free Trade Agreement Countries, 88 FR 25272 (April 26, 2023).

⁵ Rescission of Policy Statement on Export Commencement Deadlines in Authorizations to Export Natural Gas to Non-Free Trade Agreement Countries, 90 FR 14411 (Apr. 2, 2025).

This notice establishes a 15-calendar day intervention and comment period deadline. Any person wishing to comment on Magnolia's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (NGA) (18 CFR 157.10).

As a matter of practice, the Commission itself generally acts on requests for extensions of time to complete construction for NGA facilities when such requests are contested before order issuance. For those extension requests that are contested,⁶ the Commission will aim to issue an order acting on the request within 45 days.⁷ The Commission will address all arguments relating to whether the applicant has demonstrated there is good cause to grant the extension.⁸ The Commission will not consider arguments that re-litigate the issuance of the certificate order, including whether the Commission properly found the project to be in the public convenience and necessity and whether the Commission's environmental analysis for the certificate complied with the National Environmental Policy Act (NEPA).⁹ At the time a pipeline requests an extension of time, orders on certificates of public convenience and necessity are final and the Commission will not re-litigate their issuance.¹⁰ The Director of the Office of Energy Projects, or his or her designee, will act on all of those extension requests that are uncontested.

⁶ Contested proceedings are those where an intervenor disputes any material issue of the filing. 18 CFR 385.2201(c)(1).

⁷ Algonquin Gas Transmission, LLC, 170 FERC ¶ 61,144, at P 40 (2020).

⁸ Id. at P 40.

⁹ Similarly, the Commission will not re-litigate the issuance of an NGA section 3 authorization, including whether a proposed project is not inconsistent with the public interest and whether the Commission's environmental analysis for the permit order complied with NEPA.

¹⁰ Algonquin Gas Transmission, LLC, 170 FERC ¶ 61,144, at P 40.

In addition to publishing the full text of this document in the Federal Register, the Commission provides all interested persons an opportunity to view and/or print the contents of this document via the internet through the Commission's Home Page (http://www.ferc.gov). From the Commission's Home Page on the internet, this information is available on eLibrary. The full text of this document is available on eLibrary in PDF and Microsoft Word format for viewing, printing, and/or downloading. To access this document in eLibrary, type the docket number excluding the last three digits of this document in the docket number field.

User assistance is available for eLibrary and the Commission's website during normal business hours from FERC Online Support at (202) 502-6652 (toll free at 1-866-208-3676) or email at ferconlinesupport@ferc.gov, or the Public Reference Room at (202) 502-8371, TTY (202) 502-8659. Email the Public Reference Room at public.referenceroom@ferc.gov.

The Commission strongly encourages electronic filings of comments in lieu of paper using the “eFile” link at http://www.ferc.gov. In lieu of electronic filing, you may submit a paper copy which must reference the Project docket number.

To file via USPS: Debbie-Anne A. Reese, Secretary, Federal Energy Regulatory Commission, 888 First Street NE, Washington, DC 20426.

To file via any other courier: Debbie-Anne A. Reese, Secretary, Federal Energy Regulatory Commission, 12225 Wilkins Avenue, Rockville, Maryland 20852.

For public inquiries and assistance with making filings such as interventions, comments, or requests for rehearing, contact the Office of Public Participation at (202) 502-6595 or OPP@ferc.gov.

Comment Date: 5:00 p.m. Eastern Time on March 5, 2026.

(Authority: 18 CFR 2.1)

Dated: February 18, 2026.
Debbie-Anne A. Reese,
Secretary.

[FR Doc. 2026-03548 Filed 2-20-26; 8:45 am]

BILLING CODE 6717-01-P